FEDERAL COMMUNICATIONS COMMISSION

47 CFR Parts 1 and 68

[WT Docket No. 99-217; CC Docket No. 96-98; CC Docket No. 88-57; FCC 00-366]

Effective Date Established for Amendments to the Commission's Rules on Over-the-Air Reception Devices and the Definition of the Telecommunications Network Demarcation Point

AGENCY: Federal Communications Commission, Wireless Telecommunications Bureau.

ACTION: Final rule; announcement of effective date.

SUMMARY: In this document, the Federal Communications Commission (“the Commission”) announces that regulations adopted in the Competitive Networks Order of October 12, 2000 (Competitive Networks Order), amending the Commission's rules governing restrictions on placement of over-the-air reception (“OTARDs”) devices and the definitions of the telecommunications network demarcation point have been approved by the Office of Management and Budget (OMB).

DATES: The rule changes to § 1.4000 which published on January 11, 2001 (66 FR 2333) and §§ 68.3 and 68.105, which published on January 24, 2001 (66 FR 7581) are effective May 25, 2001.

FOR FURTHER INFORMATION CONTACT: Lauren Van Wazer at (202) 418-0030 or Leon Jackler at (202) 418-0946 of the Wireless Telecommunications Bureau.

SUPPLEMENTARY INFORMATION: On October 12, 2000, the Commission adopted the Competitive Networks Order in 47 CFR Parts 1, 64 and 68, in WT Docket No. 99-217; CC Docket No. 96-98; CC Docket No. 88-57; FCC 00-366 (66 FR 2322) to foster competition in local communications markets by implementing measures to ensure that competing telecommunications providers are able to provide services to consumers in multiple tenant environments. The rule changes to 47 CFR 64.2500; 64.2501; and 64.2502, which published on January 11, 2001 (66 FR 2322) went into effect on March 12, 2001.

2. However, some of the regulations adopted in the Competitive Networks Order included information collections that required the approval of OMB pursuant to Public Law 104-13 (1995). The Competitive Networks Order explained that effectiveness of the rules requiring an information collection was contingent upon OMB approval. OMB granted approval of the rules on May 4, 2001 under OMB control number 3060-0975. Accordingly, these regulations will become effective May 25, 2001. This notice constitutes publication of the effective date of the regulations.

3. This Public Notice is available for inspection and copying during normal business hours in the FCC Reference Center, 445 Twelfth Street, SW., Washington, DC. The complete text may be purchased from the Commission's copy contractor, International Transcription Service, Inc., 1231 20th Street, NW., Washington, DC 20036, (202) 857-3800. This document is also available via the internet at: http://www.fee.gov/Bureaus/Wireless/News_Releases/2001/index.html in da01-1206.doc and da01-1206.txtformats.

List of Subjects

47 CFR Part 1

Communications common carriers, Telecommunications, Television.

47 CFR Part 68

Communications common carriers, Communications equipment, Telecommunications, Telephone.

Federal Communications Commission.
William F. Caton,
Deputy Secretary.

[FR Doc. 01-13178 Filed 5-24-01; 8:45 am]

BILLING CODE 6712-01-P